DEPARTMENT OF DEFENSE

Defense Logistics Agency

Removal of Low-Activity Contamination

AGENCY: Defense National Stockpile Center (DNSC), Defense Logistics Agency.

ACTION: Notice of availability of environmental assessment and a draft finding of no significant impact for the removal of low-activity contamination.

SUMMARY: The Defense Logistics Agency announces the availability of the Environmental Assessment (EA) and draft Finding of No Significant Impact (FONSI) for the removal of low-activity contamination resulting from storage of radioactive source material in the National Defense Stockpile of strategic and critical materials.

Stockpiles of commodities containing source material have been removed from DNSC depots at Curtis Bay, MD and Hammond, IN. At the Curtis Bay Depot, the commodities containing source material (columbium/tantalum, thorium nitrate, tungsten ore and concentrates, thorium hydroxide, thorium oxide, monazite sand, uranium pitchblende ore, and sodium sulfate) were previously stored in 16 of the original 59 warehouses. Since the middle 1980s, over 19,000 drums of thorium nitrate were stored in three warehouses. Previously the thorium nitrate stockpile was stored for short periods in six other warehouses on the site. At the Hammond Depot, the commodities containing source material (columbium/tantalum, thorium nitrate, monazite sands, sodium sulfate, and tungsten ore and concentrates) were previously stored in two of the three warehouses on the site. Cleanup of any residual contamination from storage of the commodities containing source material is one task DNSC must complete before its Nuclear Regulatory Commission license can be terminated.

Following evaluation of reasonable alternatives conducted by Oak Ridge National Laboratory on behalf of DNSC, DNSC proposes to remove residual contamination and transfer the contaminants to a regulated disposal site. This disposal will be performed in a manner that will be safe, secure, and environmentally sound and minimizes radiation exposure and potential for risk to workers, the public, and the environment.

DATES: Comments on the draft FONSI received by April 9, 2007 will be considered when preparing the final version of the FONSI.

The EA and draft FONSI are available for review on the DNSC Web site (https://www.dnsc.dla.mil/EAandDraftFONSI.asp). Comments should be sent to Mr. Michael Pecullan, 8725 John J. Kingman Road, Suite 3229, Fort Belvoir, VA 22060-6221. Comments may also be faxed to Mr. Pecullan at (703) 767-7716.

FOR FURTHER INFORMATION CONTACT: Mr. Michael Pecullan, Phone (703) 767-7620 or E-Mail: michael.pecullan @dla.mil.

Dated: March 6, 2007.
Essie Schloss,
Deputy Administrator, Defense National Stockpile Center.

[FR Doc. E7-4234 Filed 3-8-07; 8:45 am]

BILLING CODE 3620-01-P